ENVIRONMENTAL PROTECTION AGENCY

40 CFR Parts 51, 60, 61, and 63

[EPA-HQ-OAR-2018-0815; FRL-10012-11-OAR]

RIN 2060-AU39

Test Methods and Performance Specifications for Air Emission Sources

Correction

In Rule Document 2020-18824, appearing on pages 63393-63422, in the issue of Wednesday, October 7, 2020, make the following correction:

PART 60—STANDARDS OF PERFORMANCE FOR NEW STATIONARY SOURCES [Corrected]

Appendix A-3 to Part 60—Test Methods 4 Through 5I

On pages 63413-63414, the ancillary text and table are republished as set forth below.

* * * * *

18.0 * * *

* * * * *

[FR Doc. C1-2020-18824 Filed 2-12-21; 8:45 am]

BILLING CODE 1301-00-D